DEPARTMENT OF THE INTERIOR

Bureau of Land Management

[COF000-LLCOF00000-L19900000.PO0000]

Notice of Meeting, Front Range Resource Advisory Council

AGENCY: Bureau of Land Management, Interior.

ACTION: Notice of public meeting.

SUMMARY: In accordance with the Federal Land Policy and Management Act and the Federal Advisory Committee Act of 1972, the U.S. Department of the Interior, Bureau of Land Management (BLM) Front Range Resource Advisory Council (RAC), will meet as indicated below.

DATES: The meeting will be held on December 11, 2014, from 9:15 a.m. to 4:15 p.m.

ADDRESSES: The meeting will be held at the Royal Gorge Field Office, 3028 E. Main Street, Cañon City, CO 81212.

FOR FURTHER INFORMATION CONTACT: Kyle Sullivan, Front Range RAC Coordinator, BLM Front Range District Office, 3028 E. Main St., Cañon City, CO 81212. Phone: (719) 269-8553. Email: ksullivan@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The 15-member Council advises the Secretary of the Interior, through the BLM, on a variety of planning and management issues associated with public land management in the BLM Front Range District, which includes the Royal Gorge Field Office and the San Luis Valley Field Office, Colorado. Planned topics of discussion items include: an update from field managers and the Royal Gorge Field Office Resource Management Plan revision. The public is encouraged to make oral comments to the Council at 10:30 a.m., or written statements may be submitted for the Council's consideration. Summary minutes for the RAC meetings will be maintained in the Royal Gorge Field Office and will be available for public inspection and reproduction during regular business hours within thirty (30) days following the meeting. Previous meeting minutes and agendas are available at: www.blm.gov/co/st/en/BLM_Resources/racs/frrac/co_rac_minutes_front.html.

Ruth Welch,
Colorado State Director.

[FR Doc. 2014-26036 Filed 10-31-14; 8:45 am]

BILLING CODE 4310-JB-P